DEPARTMENT OF HEALTH AND HUMAN SERVICES

Health Resources and Services Administration

Meeting of the National Advisory Council on Migrant Health

AGENCY: Health Resources and Services Administration (HRSA), Department of Health and Human Services (HHS).

ACTION: Notice.

SUMMARY: In accordance with the Federal Advisory Committee Act, this notice announces that the Secretary's National Advisory Council on Migrant Health (NACMH or Council) has scheduled a public meeting. Information about NACMH and the agenda for this meeting can be found on the NACMH website at: https://bphc.hrsa.gov/qualityimprovement/strategicpartnerships/nacmh.

DATES: May 25, 2021, through May 28, 2021, from 1:00 p.m. to 5:00 p.m. Eastern Time (ET) each day.

ADDRESSES: This meeting will be held by webinar. Instructions for joining the meeting will be posted on the NACMH website 30 business days before the meeting date. For meeting information updates, go to the NACMH website at: https://bphc.hrsa.gov/qualityimprovement/strategicpartnerships/nacmh.

FOR FURTHER INFORMATION CONTACT: Esther Paul, NACMH Designated Federal Officer (DFO), Strategic Initiatives and Planning Division, Office of Policy and Program Development, Bureau of Primary Health Care, HRSA, 5600 Fishers Lane, Rockville, Maryland 20857; 301-594-4300; or epaul@hrsa.gov.

SUPPLEMENTARY INFORMATION: NACMH advises, consults with, and makes recommendations to the Secretary of HHS on policy, program development, and other matters of significance concerning the activities under section 217 of the Public Health Service (PHS) Act, as amended (42 U.S.C. 218). Specifically, NACMH provides recommendations concerning policy related to the organization, operation, selection, and funding of migrant health centers, and other entities under grants and contracts under section 330 of the PHS Act (42 U.S.C. 254b). NACMH meets twice each calendar year, or at the discretion of the DFO in consultation with the NACMH Chair.

Since priorities dictate meeting times, be advised that times and agenda items are subject to change. The agenda items for the meeting may include topics and issues related to migratory and seasonal agricultural worker health.

Refer to the NACMH website listed above for all current and updated information concerning the May 2021 NACMH meeting, including draft agenda and meeting materials that will be posted 30 calendar days before the meeting.

Members of the public will have the opportunity to provide comments. Public participants may submit written statements in advance of the scheduled meeting. Oral comments will be honored in the order requested and may be limited as time allows. Requests to submit a written statement or make oral comments to the NACMH meeting should be sent to Esther Paul using the contact information above at least 5 business days before the meeting.

Individuals who need special assistance or another reasonable accommodation should notify Esther Paul using the contact information listed above at least 10 business days before the meeting. Registration is required to attend the meeting prior to entry. Registration and meeting attendance instructions will be posted on the NACMH website 30 business days before the meeting date.

Maria G. Button,
Director, Executive Secretariat.

[FR Doc. 2021-05460 Filed 3-16-21; 8:45 am]

BILLING CODE 4165-15-P